DEPARTMENT OF THE INTERIOR

Bureau of Ocean Energy Management

[Docket No. BOEM-2014-0009]

Notice of Intent To Prepare an Environmental Assessment for Proposed Wind Energy-Related Research Activities on the Atlantic Outer Continental Shelf Offshore Virginia and Notice of Public Scoping Meeting MMAA104000

AGENCY: Bureau of Ocean Energy Management (BOEM), Interior.

ACTION: Notice of Intent.

SUMMARY: In compliance with the National Environmental Policy Act (NEPA) of 1969, as amended (42 U.S.C. 4231 et seq.), BOEM intends to prepare an Environmental Assessment (EA) to consider the reasonably foreseeable environmental consequences associated with the approval of wind energy-related research activities offshore Virginia as proposed by the Virginia Department of Mines, Minerals and Energy (DMME). BOEM is seeking public input regarding important environmental issues and the identification of reasonable alternatives that should be considered in the EA.

In addition to the request for written comments, BOEM is holding a public scoping meeting to solicit comments on the scope of the EA. The meeting will be held from 5:00 p.m.-8:00 p.m. EDT on Thursday, April 3, 2014, at the Virginia Aquarium and Marine Science Center, 717 General Booth Boulevard, Virginia Beach, Virginia 23451.

Authority: The Notice of Intent to prepare an EA is published pursuant to 43 CFR 46.305.

DATES: Comments should be submitted no later than April 14, 2014.

FOR FURTHER INFORMATION CONTACT: Michelle Morin, BOEM, Environment Branch for Renewable Energy, 381 Elden Street, HM 1328, Herndon, Virginia 20170-4817; (703) 787-1340 or michelle.morin@boem.gov.

SUPPLEMENTARY INFORMATION:

1. Background

On December 9, 2013, BOEM published a Determination of No Competitive Interest (78 FR 73882) for a research lease requested by DMME. BOEM may issue DMME a research lease. A lease issued to DMME would be considered under BOEM's Finding of No Significant Impact (FONSI) and EA for Lease Issuance and Site Assessment Activities on the Atlantic Outer Continental Shelf Offshore New Jersey, Delaware, Maryland and Virginia, which can be found at http://www.boem.gov/Renewable-Energy-Program/Smart-From-The-Start/index.aspx. DMME has submitted a Research Activities Plan (RAP) to BOEM. The RAP describes the proposed construction, operation, maintenance, and decommissioning of the Virginia Offshore Wind Technology Advancement Project (VOWTAP), and includes the results of site characterization studies, such as geophysical, geotechnical, archaeological, and biological surveys. The RAP can be found at the following URL: http://www.boem.gov/Renewable-Energy-Program/State-Activities/Virginia.aspx.

DMME's proposed project, VOWTAP, would consist of two 6-MW wind turbine generators (WTGs), a 34.5-kilovolt (kV) alternating current (AC) submarine cable interconnecting the WTGs (inter-array cable), a 34.5 kV AC submarine transmission cable (export cable), and a 34.5 kV underground cable (onshore interconnection cable) that would connect the VOWTAP with existing infrastructure located in the City of Virginia Beach. Interconnection with the existing infrastructure also would require an onshore switch cabinet, an underground fiber optic cable, and a new interconnection station to be located entirely within the boundaries of the Camp Pendleton State Military Reservation (Camp Pendleton), in the City of Virginia Beach.

The offshore components of the VOWTAP, including the WTGs and inter-array cable, would be located on the Outer Continental Shelf approximately 24 nautical miles offshore Virginia Beach, Virginia, while the export cable would traverse both Federal and state submerged lands. The onshore components, including the onshore interconnection cable, fiber optic cable, switch cabinet, and interconnection station would be located entirely within the boundary of Camp Pendleton. Construction would be supported by construction staging area(s) and a construction port. Onshore support facilities would be located at existing waterfront industrial or commercial sites in the cities of Virginia Beach, Norfolk, and/or Newport News, Virginia.

2. Proposed Action and Scope of Analysis

The proposed action that will be the subject of the EA is the approval of the RAP. In addition to the no action alternative (disapproval of the RAP), other alternatives may be considered, such as exclusion of certain areas from project siting or modification of project activities. The EA will consider the reasonably foreseeable environmental consequences associated with the proposed project, including the impacts of the construction, operation, maintenance, and decommissioning of the WTGs and cables, including the impacts of noise, presence of structures, bottom disturbance, vessel traffic, and onshore activities.

This notice starts the scoping process for the EA and solicits information regarding important environmental issues and alternatives that should be considered in the EA. Additionally, BOEM will use the scoping process to identify and eliminate from study issues that are not significant or issues that have been analyzed by prior environmental reviews.

It is BOEM's intention to prepare an EA that informs all Federal decisions, including those by the Department of Energy and the U.S. Army Corps of Engineers, which are needed to determine whether and, if so, how the proposed action will proceed (40 CFR 1501.6).

BOEM will use responses to this notice and the EA public input process to satisfy the public involvement requirements of the National Historic Preservation Act (16 U.S.C. 470f), as provided in 36 CFR 800.2(d)(3), and is seeking information from the public on the identification of historic properties that might be impacted by VOWTAP. The analyses contained within the EA also will support compliance with other environmental statutes (e.g., Endangered Species Act, Magnuson-Stevens Fishery Conservation and Management Act, and Marine Mammal Protection Act).

3. Cooperating Agencies

BOEM invites Federal, state, and local government agencies, as well as tribal governments, to consider becoming cooperating agencies in the preparation of this EA. Council on Environmental Quality (CEQ) regulations implementing the procedural provisions of NEPA define cooperating agencies as those with “jurisdiction by law or special expertise” (40 CFR 1508.5). Potential cooperating agencies should consider their authority and capacity to assume the responsibilities of a cooperating agency and remember that an agency's role in the environmental analysis neither enlarges nor diminishes the final decisionmaking authority of any other agency involved in the NEPA process.

Upon request, BOEM will provide potential cooperating agencies with a draft Memorandum of Agreement that includes a schedule with critical action dates and milestones, mutual responsibilities, designated points of contact, and expectations for handling pre-decisional information. Agencies should also consider the “Factors for Determining Cooperating Agency Status” in Attachment 1 to CEQ's January 30, 2002, Memorandum for the Heads of Federal Agencies: Cooperating Agencies in Implementing the Procedural Requirements of the NEPA. A copy of this document is available at: http://ceg.hss.doe.gov/nepa/regs/cooperating/cooperatingagenciesmemorandum.html and at: http://ceg.hss.doe.gov/nepa/regs/cooperating/cooperatingagencymemofactors.html.

BOEM, as the lead agency, will not provide financial assistance to cooperating agencies. Even if an organization is not a cooperating agency, opportunities will exist to provide information and comments to BOEM during the normal public input phases of the NEPA/EA process.

4. Comments

Federal, State, local government agencies, tribal governments, and other interested parties are requested to send their written comments on the important issues to be considered in the EA by either of the following methods:

1. Federal eRulemaking Portal: http://www.regulations.gov. In the entry titled “Enter Keyword or ID,” enter BOEM-2014-0009, and then click “search.” Follow the instructions to submit public comments and view supporting and related materials available for this notice;

2. By U.S. Postal Service or other delivery service, send your comments and information to the following address: Bureau of Ocean Energy Management, Office of Renewable Energy Programs, 381 Elden Street, HM 1328, Herndon, Virginia 20170-4817; or

3. In person at the EA public scoping meeting.

Before including your address, phone number, email address, or other personal identifying information in your comment, you should be aware that your entire comment—including your personal identifying information—may be made publicly available at any time. While you can ask us in your comments to withhold your personal identifying information from public review, we cannot guarantee that we will be able to do so.

Dated: March 3, 2014.
Tommy P. Beaudreau,
Director, Bureau of Ocean Energy Management.

[FR Doc. 2014-05683 Filed 3-13-14; 8:45 am]

BILLING CODE 4310-MR-P